DEPARTMENT OF EDUCATION

[Docket ID ED-2024-OPE-0072]

Request for Information on Identifying and Tracking Data Related to Early Childhood Education Providers

AGENCY: Office of Postsecondary Education, Department of Education.

ACTION: Request for information.

SUMMARY: This notice is a request for information in the form of written comments that include information, research, and suggestions regarding operational aspects of the possible inclusion of for-profit early childhood education providers as eligible employers for the purpose of Public Service Loan Forgiveness.

DATES: We must receive your comments by July 22, 2024.

ADDRESSES: Comments must be submitted via the Federal eRulemaking Portal at regulations.gov. However, if you require an accommodation or cannot otherwise submit your comments via regulations.gov, please contact the program contact person listed under FOR FURTHER INFORMATION CONTACT. The Department will not accept comments by email or by fax. To ensure that the Department does not receive duplicate copies, please submit your comments only once. Additionally, please include the Docket ID at the top of your comments.

Federal eRulemaking Portal: Go to www.regulations.gov to submit your comments electronically. Information on using Regulations.gov, including instructions for accessing agency documents, submitting comments, and viewing the docket, is available on the site under the “FAQ” tab.

Privacy Note: The Department's policy for comments received from members of the public is to make these submissions available for public viewing in their entirety on the Federal eRulemaking Portal at www.regulations.gov. Therefore, commenters should be careful to include in their comments only information that they wish to make publicly available. We encourage, but do not require, that each respondent include their name, title, institution or affiliation, and the name, title, mailing and email addresses, and telephone number of a contact person for the institution or affiliation, if any.

FOR FURTHER INFORMATION CONTACT: Greg Marak. Telephone: (202) 401-6250. You may also email your questions to greg.marak@ed.gov, but as described above, comments must be submitted via the Federal eRulemaking Portal at regulations.gov.

If you are deaf, hard of hearing, or have a speech disability and wish to access telecommunications relay services, please dial 7-1-1.

SUPPLEMENTARY INFORMATION:

Background:

Congress created the Public Service Loan Forgiveness (PSLF) Program in 2007 as part of the College Cost Reduction and Access Act, Public Law 110-84, to encourage individuals to enter into and remain employed in public service professions. The program alleviates financial burdens associated with Federal Direct Loans for borrowers working for certain public service providers by forgiving all remaining loan balances following 10 years of public service while the borrower makes qualifying student loan payments. Since its creation in 2007, PSLF has been available to borrowers working for government at all levels, non-profit organizations that are tax-exempt under section 501(c)(3) of the Internal Revenue Code, and other non-profits that provide at least one of the specific services listed in the statute. This includes early care educators who work in the public sector or for non-profit organizations.

A significant share of early care educators, however, are not considered public sector or non-profit employees and current regulations do not provide a pathway for their eligibility for PSLF. Data from the National Survey of Early Care and Education, conducted by the Department of Health and Human Service's Office of Planning, Research, and Evaluation, estimates that extending PSLF eligibility to early childhood education (ECE) workers regardless of the tax status of their employer would allow more than 450,000 additional ECE workers to earn credit toward PSLF—about 68,000 who work in home-based settings and 390,000 who work in center-based settings—if they have student loans.¹ This reflects roughly one-third of the overall ECE workforce.

¹ These estimates are from the Administration for Children and Families' National Survey of Early Care and Education, both the 2019 Home-Based NSECE chartbook and the 2019 Center-Based NSECE chartbook. These data show that approximately three-fourths of home-based providers had at least some college, and 72 percent of for-profit ECE workers had some college or higher.

On July 13, 2022, the Department published a notice of proposed rulemaking (NPRM) in the Federal Register (87 FR 41878).² In the NPRM, the Department proposed improvements to PSLF that reduce regulatory and administrative barriers that have historically made it more difficult for borrowers to make progress toward forgiveness under PSLF. This included simplifying criteria to help borrowers certify employment, helping borrowers earn progress toward PSLF for months that did not count before, and providing borrowers with more opportunities to correct problems with PSLF.

² https://www.federalregister.gov/documents/2022/07/13/2022-14631/student-assistance-general-provisions-federal-perkins-loan-program-federal-family-education-loan.

Additionally, in the NPRM, the Department asked directed questions about the possibility of allowing ECE providers who are private for-profit businesses to be considered eligible employers for the purposes of PSLF. In response, the Department received many detailed comments about early childhood education as well as a range of comments in support of making other for-profit employers eligible to serve as qualifying employers for PSLF for individuals in certain occupations.

On November 1, 2022, the Secretary published final regulations ³ in the Federal Register. Those final regulations did not include regulations regarding whether, and under what circumstances, private for-profit ECE providers employing borrowers working as early childhood educators, should be treated as qualifying employers for PSLF.⁴

³ https://www.federalregister.gov/documents/2022/11/01/2022-23447/institutional-eligibility-under-the-higher-education-act-of-1965-as-amended-student-assistance.

⁴ Section 103(8) of the Higher Education Act contains a definition of ”early childhood education program” that includes public preschool, Head Start, and State licensed and regulated child care programs. It does not speak to the tax-status of providers. Unlike the public Kindergarten through 12th grade system, which provides free access to education for all age-eligible children and youth, there is no parallel system for our country's youngest children. As a result, ECE is delivered through a system of mixed delivery that includes public programs, non-profit settings, and for-profit settings. https://www.acf.hhs.gov/ecd/policy-guidance/dear-colleague-letter-mixed-delivery. The vast majority of ECE settings are home-based, and do not carry non-profit tax designations. Compensation across settings is low generally, regardless of the tax-status of the ECE provider. https://www.bls.gov/oes/current/oes_va.htm.

Solicitation of Comments:

Early care educators are among the lowest-paid workers in the country; and the Administration has committed through Executive Order 14095, to better supporting the care workforce.⁵ The E.O. states that investments in the care workforce are foundational to helping to retain care workers and improving health and educational outcomes for those in their care. The purpose of this Request for Information (RFI) is to gather information about ECE providers. This RFI and the comments received in response to this RFI will not be considered as part the Affordability and Student Loans proposed rule (87 FR 41878) and any subsequent related final rules. The comments received in response to this RFI will not be used as part of the rulemaking related to the treatment of for-profit employers, including ECE providers, and eligibility for PSLF. Instead, the feedback from this RFI will help inform the Department's understanding of different approaches that might be considered when implementing non-rulemaking solutions related to this issue.

⁵ Federal Register: Increasing Access to High-Quality Care and Supporting Caregivers.

Given the operational and implementation hurdles associated with PSLF, the Department is interested in understanding whether there are ways that eligibility could be streamlined if all ECEs became eligible. The Department is soliciting information and data from the public on how the Department could determine employer eligibility and related considerations if for-profit ECE employers were to be considered eligible employers if they provided one of the services listed in the statute. The Department encourages comments from researchers, academics, policy experts, and other individuals familiar with ECE employer data; organizations that work directly with ECE workers; State and Tribal government officials who oversee and administer ECE programs; ECE practitioners; and other members of the public. The Department will review all comments received, but does not intend to respond to comments.

The Department seeks feedback on the following questions:

(1) The Department has always relied upon employer identification numbers (EINs) to identify whether an employer is a non-profit under IRC 501(c)(3). This approach has allowed the Department to create a comprehensive list of eligible employers and use a consistent identifier system. However, some for-profit businesses may be sole proprietors or other providers that do not have an EIN. Are there other uniform sources that the Department might consider using for determinations of qualifying employers?

(2) If there are not other uniform sources, how should the Department address eligibility determinations of a for-profit ECE employer?

(3) If in consultation with the Department, the U.S. Department of Health & Human Services (HHS), issued a voluntary Public Records Act request from the States to create a nationwide registry of EINs of ECE providers, are State and Tribal agencies that oversee and administer ECE programs in a position to collect this information? Do commenters believe that all States would provide this information? Are there any additional considerations the Department should be aware of should HHS issue this request?

(4) What feedback can be provided concerning the time it would take a State or Tribe to undertake the collection of EINs for licensed and regulated providers, including the process, privacy, administrative, or other considerations that the Department should take into account?

(5) Should the Department consider a process that relies on unique identifiers associated with licensure as opposed to EINs to identify eligible employers?

This is a request for information only. This RFI is not a request for proposals and does not commit the Department to take any future administrative, contractual, regulatory, or other action. The Department will not pay for any information or costs that you may incur in responding to this RFI. Any documents and information submitted in response to this RFI become the property of the U.S. Government and will not be returned.

Accessible Format: By request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to this Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Nasser Paydar,
Assistant Secretary, Office of Postsecondary Education.

[FR Doc. 2024-13446 Filed 6-18-24; 8:45 am]

BILLING CODE 4000-01-P